ENVIRONMENTAL PROTECTION AGENCY

[FRL-8286-5]

Omega Chemical Superfund Site; Notice of Proposed CERCLA Administrative Settlement With Certain Ability To Pay Parties

AGENCY: Environmental Protection Agency (EPA).

ACTION: Notice; request for public comment.

SUMMARY: In accordance with Section 122(i) of the Comprehensive Environmental Response, Compensation, and Liability Act, as amended (CERCLA), 42 U.S.C. 9622(i), notice is hereby given of a proposed administrative settlement for recovery of past response costs concerning the Omega Chemical Site in Whittier, Los Angeles County, California with 12 settling ability to pay parties. The settlement is entered into pursuant to Section 122(h) of CERCLA, 42 U.S.C. 9622(h), and it requires the settling parties to pay approximately $111,000 to the United States Environmental Protection Agency (EPA). The settlement includes a covenant not to sue the settling parties, pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 75 Hawthorne Street, San Francisco, CA 94105.

DATES: Comments must be submitted on or before April 9, 2007.

ADDRESSES: The proposed settlement is available for public inspection at EPA Region IX, 75 Hawthorne Street, San Francisco, California. A copy of the proposed settlement may be obtained from Steve Berninger, EPA Region IX, 75 Hawthorne Street, ORC-3, San Francisco, CA 94105, telephone number 415-972-3909. Comments should reference the Omega Chemical Superfund Site, Whittier, California and EPA Docket No. 2006-26, and should be addressed to Steve Berninger at the above address.

FOR FURTHER INFORMATION CONTACT: Steve Berninger, Assistant Regional Counsel (ORC-3), Office of Regional Counsel, U.S. EPA Region IX, 75 Hawthorne Street, San Francisco, CA 94105; phone: (415) 972-3909; fax: (415) 947-3570; e-mail: berninger.stephen@epa.gov.

Dated: February 28, 2007.
Keith Takata,
Director, Superfund Division, Region IX.

[FR Doc. E7-4274 Filed 3-8-07; 8:45 am]

BILLING CODE 6560-50-P